DEPARTMENT OF EDUCATION

[CFDA No.: 84.330B]

Office of Elementary and Secondary Education—Advanced Placement (AP) Test Fee Program; Notice Inviting Applications for New Awards for Fiscal Year (FY) 2002

Purpose of Program: The AP Test Fee program provides grants to States to enable them to pay advanced placement test fees on behalf of eligible low-income students who (1) are enrolled in an advanced placement course; and (2) plan to take an advanced placement exam. The program is designed to increase the number of low-income students who take advanced placement tests and receive scores for which college academic credit is awarded. Further, the program seeks to increase the number of low-income students who achieve a baccalaureate or advanced degree. Therefore, through participation in this program, low-income students will have greater opportunities to achieve to higher standards in English, mathematics, science, and other core subjects.

Eligible Applicants: State educational agencies (SEAs) in any State, including the District of Columbia, the Commonwealth of Puerto Rico, and each of the outlying areas.

Note: For purposes of this program, the Bureau of Indian Affairs is treated as an SEA.

Applications Available: May 23, 2002.

Deadline for Transmittal of Applications: July 8, 2002.

Deadline for Transmittal Review: September 5, 2002.

Estimated Available Funds: Up to $1,000,000.

Estimated Range of Awards: $50,000 to $400,000 per year.

Estimated Average Size of Awards: $225,000 per year.

Estimated Number of Awards: 5-20.

Note: These estimates are projections for the guidance of potential applicants. The Department is not bound by any estimates in this notice.

Project Period: Up to 36 months.

E-Mail Notification of Intent to Apply for Funding: The Department will be able to develop a more efficient process for reviewing grant applications if it has a better understanding of the number of entities that intend to apply for funding under this competition. Therefore, the Secretary strongly encourages each potential applicant for the AP Test Fee program to notify the Department by e-mail that it intends to submit an application for funding. The Secretary requests that this e-mail notification be sent no later than June 24, 2002. The e-mail notification should be sent to Ms. Madeline Baggett at madeline.baggett@ed.gov. Applicants that fail to provide this e-mail notification may still apply for funding.

Allowable Activities

States receiving grants under this program may use the grant funds to pay part or all of the cost of advanced placement test fees for low-income individuals who (1) are enrolled in an advanced placement class; and (2) plan to take an advanced placement test.

Priority

In accordance with statutory requirements, in allocating funds appropriated for Title I, Part G Advanced Placement programs, the Department gives priority to funding proposals to use grant funds to pay advanced placement test fees on behalf of eligible low-income individuals. To implement this priority, the Department intends to fund, at some level, all applications that meet the minimum Requirements for Approval of Applications as described in the application package.

Award Basis

In determining grant award amounts, the Department will consider, among other things, the number of children in the State eligible to be counted under section 1124(c) of Title I of the ESEA in relation to the number of such children so counted in all the States. Complete budget data must be submitted for each year of funding requested.

Applicable Regulations and Statute

The Education Department General Administrative Regulations (EDGAR) in 34 CFR parts 75, 77, 79, 80, 81, 82, 85, 86, and 99. Title I, Part G of the Elementary and Secondary Education Act of 1965 (ESEA), as amended by the No Child Left Behind Act of 2001, Public Law 107-110.

The following definitions and other provisions are taken from the Advanced Placement Programs authorizing statute, in Title I, Part G of the ESEA. They are repeated in this application notice for the convenience of the applicant.

Definitions

As used in this section:

(a) The term advanced placement test means an advanced placement test administered by the College Board or approved by the Secretary of Education.

Note: In addition to advanced placement tests administered by the College Board, the Department has approved advanced placement tests administered by the International Baccalaureate Organization. As part of the grant application process, applicants may request approval of tests from other educational entities that provide comparable programs of rigorous academic courses and testing through which students may earn college credit.

(b) The term low-income individual means an individual who is determined by an SEA or local educational agency to be a child, ages 5 through 17, from a low-income family, on the basis of data used by the Secretary to determine allocations under section 1124 of Title I of the ESEA, data on children in families receiving assistance under part A of title IV of the Social Security Act, or data on children eligible to receive medical assistance under the Medicaid program under title XIX of the Social Security Act, or through an alternate method that combines or extrapolates from those data.

Information Dissemination

An SEA awarded a grant under the AP Test Fee program shall disseminate information regarding the availability of advanced placement test fee payments under this program to eligible individuals through secondary school teachers and guidance counselors.

Supplement, Not Supplant Rule

Funds provided under this program must be used to supplement, and not supplant, other non-Federal funds that are available to assist low-income individuals in paying advanced placement test fees.

For Applications or Information Contact: Madeline E. Baggett, U.S. Department of Education, School Improvement Programs, 400 Maryland Avenue, SW., Room 3E228, Washington, DC 20202-6140. Telephone (202) 260-2669. Internet address: Madeline.Baggett@ed.gov

Individuals who use a telecommunications device for the deaf (TDD) may call the Federal Information Relay Service (FIRS) at 1-800-877-8339.

Individuals with disabilities may obtain this document in an alternative format (e.g., Braille, large print, audiotape, or computer diskette) upon request to the contact person listed under For Applications or Information Contact. Individuals with disabilities may obtain a copy of the application package in an alternative format, also, by contacting that person. However, the Department is not able to reproduce in an alternative format the standard forms included in the application package.

Electronic Access to this Document

You may view this document, as well as all other Department of Education documents published in the Federal Register, in text or Adobe Portable Document Format (PDF) on the Internet at the following site: www.ed.gov/legislation/FedRegister. To use PDF, you must have Adobe Acrobat Reader, which is available free at this site. If you have questions about using PDF, call the U.S. Government Printing Office (GPO) toll free at 1-888-293-6498; or in the Washington, DC area at (202) 512-1530.

Note: The official version of a document is the document published in the Federal Register. Free Internet access to the official edition of the Federal Register and the Code of Federal Regulations is available on GPO Access at: http://www.access.gpo.gov/nara/index.html

Program Authority: Pub. L. 107-110.

Dated: May 20, 2002.
Susan B. Neuman,
Assistant Secretary for Elementary and Secondary Education.

[FR Doc. 02-13024 Filed 5-22-02; 8:45 am]

BILLING CODE 4000-01-P